DEPARTMENT OF THE INTERIOR

Bureau of Land Management

[LLIDT03000.L57000000.EU0000; IDI-35249]

Notice of Realty Action: Direct Sale of Public Land in Blaine County, ID

AGENCY: Bureau of Land Management, Interior.

ACTION: Notice of Realty Action.

SUMMARY: The Bureau of Land Management (BLM), Shoshone Field Office, proposes to sell a parcel of public land totaling 3.39 acres in Blaine County, Idaho, to the Point of Rocks Ranch, LLC (PORR), at not less than the appraised fair market value of $3,220.

DATES: Comments regarding the proposed sale must be received by the BLM before August 16, 2013.

ADDRESSES: Written comments concerning the proposed sale should be sent to BLM Shoshone Field Manager, 400 West F Street, Shoshone, Idaho 83352.

FOR FURTHER INFORMATION CONTACT: Kasey Prestwich, Realty Specialist, BLM Shoshone Field Office, 400 West F Street, Shoshone, Idaho 83352 or 208-732-7204. Persons who use a telecommunications device for the deaf (TDD) may call the Federal Information Relay Service (FIRS) at 1-800-877-8339 during normal business hours. The FIRS is available 24 hours a day, 7 days a week, to leave a message or question with the above individual. You will receive a reply during normal business hours.

SUPPLEMENTARY INFORMATION: The following described public land is being proposed for direct sale to PORR in accordance with Sections 203 and 209 of the Federal Land Policy and Management Act of 1976, as amended, (43 U.S.C. 1713 and 1719):

Boise Meridian

T. 1 S., R. 20 E.,

Sec. 15, lot 6.

The area described contains 3.39 acres, more or less.

The public land is identified as suitable for disposal in the BLM Sun Valley Management Framework Plan, as amended.

The PORR owns approximately 523 acres of private land adjoining the subject parcel on three sides. The subject parcel is difficult and uneconomical to manage because it is physically separated from other public lands by a fence and a county road. The disposal would allow for the road to become an identifiable boundary between public and private lands and improve efficiencies in the management of both the public and private land. It has been determined that the lands are not needed for Federal purposes and that conveyance is consistent with current BLM land use planning and would be in the public interest. Disposal of this parcel would allow PORR to cultivate the property in conjunction with its adjoining ranch and include the parcel within an existing conservation easement held by The Nature Conservancy that encompasses the adjoining PORR fee. Such use of the subject parcel could be achieved prudently and feasibly in conjunction with the PORR's fee and therefore outweigh other public values, including recreation and scenic values, which may be served by retaining the subject parcel.

Current BLM policy and regulations for land sales [43 CFR 2710.0-6(c)(1-5)] require the use of competitive sale procedures unless the authorized officer determines the public interest would best be served by modified competitive bidding or direct (non-competitive) sale. In this instance, PORR owns about 523 acres of abutting property. In fact, for several decades prior to the discovery of the unauthorized development in 2005, the parcel was mapped as private land. In recognition of PORR's adjoining ownership, as well as to resolve an inadvertent trespass, PORR meets regulatory requirements for a direct sale.

The BLM has completed a mineral potential report which concluded there are no known mineral values in the lands proposed for sale. The BLM proposes that conveyance of the Federal mineral interests would occur simultaneously with the sale of the lands. The PORR will be required to pay a $50 nonrefundable filing fee for the conveyance of the mineral interests and associated administrative costs.

On October 26, 2010, the above described land was segregated from appropriation under the public land laws, including the mining laws. The original segregation terminated 2 years from the date of segregation. Publication of this Notice in the Federal Register segregates the subject lands from all forms of appropriation under the public land laws, including the general mining laws, except sale under the Federal Land Policy and Management Act. The segregation will terminate (i) Upon issuance of a patent or other document of conveyance to such lands, (ii) upon publication in the Federal Register of a termination of the segregation, or (iii) at the end of 2 years from the date of this publication in the Federal Register, whichever occurs first.

The land will not be sold before September 3, 2013. Any patent issued will contain the following terms, conditions, and reservations:

1. A reservation to the United States for ditches and canals constructed by the authority of the United States under the Act of August 30, 1890 (43 U.S.C. 945);

2. A condition that the conveyance be subject to all valid existing rights of record;

3. To the extent required by law, the sale will be subject to the requirements of Section 120(h) of the Comprehensive Environmental Response, Compensation and Liability Act (42 U.S.C. 9620(h));

4. An appropriate indemnification clause protecting the United States from claims arising out of the lessee's/patentee's use, occupancy or operations on the leased/patented lands; and

5. Additional terms and conditions that the authorized officer deems appropriate. Detailed information concerning the proposed land sale including the appraisal, planning and environmental documents, and a mineral report are available for review at the BLM Shoshone Field Office at the location identified in the ADDRESSES section above. Normal business hours are 7:45 a.m. to 4:30 p.m., Monday through Friday, except for Federal holidays.

Public Comments: Public comments regarding the proposed sale may be submitted in writing to the BLM Shoshone Field Manager (see ADDRESSES section) on or before August 16, 2013. Any adverse comments regarding the proposed sale will be reviewed by the BLM Idaho State Director or other authorized official of the Department of the Interior, who may sustain, vacate, or modify this realty action in whole or in part. In the absence of timely filed objections, this realty action will become the final determination of the Department of the Interior.

Before including your address, phone number, email address, or other personal identifying information in your comment; you should be aware that your entire comment—including your personal identifying information—may be made publicly available at any time. While you can ask us in your comment to withhold your personal identifying information from public review, we cannot guarantee that we will be able to do so.

Authority: 43 CFR 2711.1-2

Elizabeth Maclean,
Field Manager, Shoshone Field Office.

[FR Doc. 2013-15871 Filed 7-1-13; 8:45 am]

BILLING CODE 4310-GG-P